ENVIRONMENTAL PROTECTION AGENCY

40 CFR Parts 51 and 93

[EPA-HQ-OAR-2004-0491; FRL-8176-3]

RIN 2060-AN60

PM2.5 De Minimis Emission Levels for General Conformity Applicability

AGENCY: Environmental Protection Agency (EPA).

ACTION: Withdrawal of direct final rule.

SUMMARY: Because EPA received adverse comment, we are withdrawing the direct final rule amendments to the PM2.5 De Minimis Emission Levels for General Conformity Applicability, published in the Federal Register on April 5, 2006. We stated in the direct final rule amendments that if we received adverse comment by May 5, 2006, we would publish a timely notice of withdrawal in the Federal Register. We subsequently received adverse comment on the direct final rule amendments. We will address those comments in a subsequent final action based on the parallel proposal also published on April 5, 2006. As stated in the parallel proposal, we will not institute a second comment period on this action.

DATES: As of June 1, 2006, EPA withdraws the direct final rule amendments published on April 5, 2006 (71 FR 17003).

ADDRESSES: EPA has established a docket for this action under Docket ID No. EPA-HQ-OAR-2004-0491. All documents in the docket are listed on the http://www.regulations.gov Web site. Although listed in the index, some information is not publicly available, e.g., confidential business information or other information whose disclosure is restricted by statute. Certain other material, such as copyrighted material, is not placed on the Internet and will be publicly available only in hard copy form. Publicly available docket materials are available either electronically through http://www.regulations.gov or in hard copy at Air Docket, EPA/DC, EPA West, Room B102, 1301 Constitution Ave., NW., Washington, DC. The Public Reading Room is open from 8:30 a.m. to 4:30 p.m., Monday through Friday, excluding legal holidays. The telephone number for the Public Reading Room is (202) 566-1744.

FOR FURTHER INFORMATION CONTACT: Mr. Thomas Coda, Office of Air Quality Planning and Standards, Air Quality Policy Division, State and Local Programs Group (Code C539-01), Environmental Protection Agency, Research Triangle Park, North Carolina 27711; telephone number: (919) 541-3037; fax number: (919) 541-0824; e-mail address: coda.tom@epa.gov.

SUPPLEMENTARY INFORMATION:

I. General Information

A. Does This Action Apply to Me?

Today's action applies to all Federal agencies and Federal activities.

II. Background Information

On April 5, 2006, we published a direct final rule (71 FR 17003) and parallel proposal (71 FR 17047) amending the General Conformity rules. The amendments were to revise the tables in subparagraphs (b)(1) and (b)(2) of 40 CFR 51.853 and 40 CFR 93.153 by adding the de minimis emission levels for PM2.5. The direct final rule established 100 tons per year as the de minimis emission level for direct PM2.5 and each of its precursors as defined in revised section 91.152. This action maintained our past policy of consistency between the conformity de minimis emission levels and the size of a major stationary source under the New Source Review program (70 FR 65984). These levels are also consistent with the levels proposed for volatile organic compound (VOC) and Nitrogen Oxides (NOX) emissions in subpart 1 areas under the 8-hour ozone implementation strategy (68 FR 32843). We published the direct final rule without prior proposal because the Agency viewed this as a noncontroversial action and anticipated no adverse comments. However, in the proposed rules section of the April 5, 2006 Federal Register publication, EPA published a separate document to serve as the proposal should adverse comments be filed. This direct final rule would have become effective June 5, 2006, without further notice if the EPA had not received relevant adverse comments by May 5, 2006. The preamble to the direct final rule amendments stated that if we received adverse comment by May 5, 2006, we would publish a timely notice of withdrawal in the Federal Register. EPA received adverse comment on the direct final rule amendments. Accordingly, we are withdrawing the direct final rule amendments as of June 1, 2006. EPA will take final action on the parallel proposal after considering the comments received. As stated in the parallel proposal, EPA will not institute a second comment period on this action.

List of Subjects

40 CFR Part 51

Environmental protection, Administrative practice and procedures, Air pollution control, Carbon monoxide, Intergovernmental relations, Lead, Nitrogen dioxide, Ozone, Particulate matter, Reporting and recordkeeping requirements, Sulfur dioxide, Volatile organic compounds.

40 CFR Part 93

Environmental protection, Administrative practice and procedures, Air pollution control, Carbon monoxide, Intergovernmental relations, Lead, Nitrogen dioxide, Ozone, Particulate matter, Reporting and recordkeeping requirements, Sulfur dioxide, Volatile organic compounds.

Dated: May 24, 2006.
William L. Wehrum,
Acting Assistant Administrator for Air and Radiation.

PARTS 53 AND 91—[AMENDED]

Accordingly, the amendments to the rule published in the Federal Register on April 5, 2006 (71 FR 17003) on pages 17003—17009 are withdrawn as of June 1, 2006.

[FR Doc. E6-8400 Filed 5-31-06; 8:45 am]

BILLING CODE 6560-50-P